DEPARTMENT OF THE TREASURY

Alcohol and Tobacco Tax and Trade Bureau

27 CFR Part 9

[Docket No. TTB-2014-0003; Notice No. 142]

RIN 1513-AC05

Proposed Establishment of The Rocks District of Milton-Freewater Viticultural Area

AGENCY: Alcohol and Tobacco Tax and Trade Bureau, Treasury.

ACTION: Notice of proposed rulemaking.

SUMMARY: The Alcohol and Tobacco Tax and Trade Bureau (TTB) proposes to establish the approximately 3,770-acre “The Rocks District of Milton-Freewater” viticultural area in Umatilla County, Oregon. The proposed viticultural area lies entirely within the Walla Walla Valley viticultural area which, in turn, lies within the Columbia Valley viticultural area. TTB designates viticultural areas to allow vintners to better describe the origin of their wines and to allow consumers to better identify wines they may purchase. TTB invites comments on this proposed addition to its regulations.

DATES: Comments must be received by April 28, 2014.

ADDRESSES: Please send your comments on this notice to one of the following addresses:

• Internet: http://www.regulations.gov (via the online comment form for this notice as posted within Docket No. TTB-2014-0003 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this notice for specific instructions and requirements for submitting comments, and for information on how to request a public hearing.

You may view copies of this notice, selected supporting materials, and any comments that TTB receives about this proposal at http://www.regulations.gov within Docket No. TTB-2014-0003. A link to that docket is posted on the TTB Web site at http://www.ttb.gov/wine/wine-rulemaking.shtml under Notice No. 142. You also may view copies of this notice, all related petitions, maps, or other supporting materials, and any comments that TTB receives about this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR Part 4) allows the establishment of definitive viticultural areas and the use of their names as appellations of origin on wine labels and in wine advertisements. Part 9 of the TTB regulations (27 CFR Part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• A copy of the appropriate United States Geological Survey (USGS) map(s) showing the location of the proposed AVA, with the boundary of the proposed AVA clearly drawn thereon; and

• A detailed narrative description of the proposed AVA boundary based on USGS map markings.

The Rocks District of Milton-Freewater Petition

TTB received a petition from Dr. Kevin R. Pogue, a professor of geology at Whitman College in Walla Walla, Washington, proposing the establishment of the “The Rocks District of Milton-Freewater” AVA in Umatilla County, Oregon, near the town of Milton-Freewater. The proposed AVA lies entirely within the Walla Walla Valley AVA (27 CFR 9.91), which is located in portions of Walla Walla County, Washington and Umatilla County, Oregon. The Walla Walla Valley AVA is, in turn, entirely within the larger Columbia Valley AVA (27 CFR 9.74), which is located in multiple counties in Washington and Oregon. The proposed AVA contains approximately 3,770 acres and has approximately 250 acres of commercially producing vineyards. The petition names 19 wine producers that have vineyards within the proposed AVA, and it notes that three of the 19 producers also have winery facilities within the proposed AVA. According to the petition, the distinguishing feature of the proposed The Rocks District of Milton-Freewater AVA is its soil. Unless otherwise noted, all information and data pertaining to the proposed AVA contained in this document are from the petition for the proposed The Rocks District of Milton-Freewater AVA and its supporting exhibits.

Name Evidence

The proposed The Rocks District of Milton-Freewater AVA is located on an alluvial fan of the Walla Walla River and derives its name from the cobblestone-rich soil near the town of Milton-Freewater, Oregon. The towns of Milton and Freewater were founded in the late 1800s and merged in 1951 to become Milton-Freewater. A 1906 magazine article included as part of the petition demonstrates that the region of the proposed AVA has long been associated with its unusually rocky soil. The article states, “I wonder if you ever thought of how Freewater appears to a stranger? . . . `Rocks! Rocks!' I hear you say.” ¹ The article notes that, in spite of the rocky soil, “[t]he fruit trees are growing here in abundance,” as are “luscious clusters of grapes . . ..”

¹ George B. Sanderson, “Outsider's View of Freewater,” Up-To-The-Times, December 1906, page 31.

Excerpts from recent articles published on wine industry Web sites and blogs provide evidence that the location of the proposed AVA is commonly referred to as “The Rocks.” Three of the articles are from wine reviewer Sean P. Sullivan's Washington Wine Report Web site. (See www.wawinereport.com.) The first article, from April 2, 2010, states, “The Rocks area is located on a historic, cobblestone-strewn riverbed.” ² The second article, posted on September 12, 2012, features a vineyard owner who purchased property within the proposed AVA because of “the potential in the Rocks.” ³ The third article, posted on September 19, 2012, refers to “the Rocks region, the ancient cobblestone riverbed in the southern section of the valley.” ⁴

² “Washington's `Dirty Little Secret'—Some of Our Best Wines are From Oregon Grapes.”

³ “Proper Wines-From the Rocky Mountains to the Rocks of Walla Walla Valley.”

⁴ “Delmas—How One Little Vacation Can Change Your Life.”

Two articles by Kori Voorhees from the Wine Peeps wine blog also provide evidence that the region of the proposed AVA is known as “The Rocks.” (See www.winepeeps.com.) The first article, from November 8, 2010, describes a vineyard within the proposed AVA as being “located near Milton-Freewater, Oregon, in an area known as The Rocks.” ⁵ The second article, from June 13, 2012, states that another vineyard within the proposed AVA is situated “in an area called `The Rocks' by the locals.” ⁶

⁵ “Cayuse: Unique Terroir or Flawed Wine?”

⁶ “Watermill Winery: Great Fruit and Great Wines From the Brown Family.”

Several excerpts from the writings of Paul Gregutt, a wine writer who focuses on wines from Oregon and Washington, refer to the region of the proposed AVA as “The Rocks.” Three excerpts are from his book Washington Wines and Wineries: The Essential Guide, which also includes information on the region of the proposed AVA because the existing Walla Walla Valley and Columbia Valley AVAs that encompass it cover portions of both Washington and Oregon. The first excerpt notes that the vineyards of the proposed AVA are “scattered throughout the old riverbed informally known as the Rocks.” The second excerpt states, “The area known locally as the Rocks, located in Oregon west of Milton-Freewater . . . was first planted to wine grapes in the late 1990's.” The third excerpt describes a vineyard within the proposed AVA that has “12 acres planted in the Rocks to cabernet franc, malbec, syrah, and tempranillo.” Finally, an article from Mr. Gregutt's wine blog posted on April 11, 2011, describes a newly planted vineyard within the proposed AVA as “a new addition in The Rocks.” ⁷ (See www.paulgregutt.com.)

⁷ “New From Figgins Family Wineries.”

The United States Geological Survey's (USGS) Geographical Names Information System (GNIS; http://geonames.usgs.gov/index.html) lists 25 locations in the United States known as “The Rocks.” Therefore, the petitioner added “Milton-Freewater” to the proposed name in order to distinguish the proposed AVA from the other locations. The town of Milton-Freewater is located partially within the proposed AVA and is clearly identified on the Milton-Freewater USGS quadrangle map used to mark the boundary of the proposed AVA. A GNIS search for “Milton-Freewater” conducted by TTB produced 15 results, all of which are for locations within the town of Milton-Freewater, Oregon, including a post office, a Department of Motor Vehicles office, a library, a municipal court, a sewage treatment plant, and several fire stations.

Boundary Evidence

As previously noted, the proposed The Rocks District of Milton-Freewater AVA lies entirely within the Oregon portion of the existing Walla Walla Valley AVA, which, in turn, lies entirely within the existing Columbia Valley AVA. The proposed AVA does not overlap with any other existing or proposed AVA.

The proposed The Rocks District of Milton-Freewater AVA is located on an alluvial fan of the Walla Walla River where the river exits the foothills of the Blue Mountains and enters the Walla Walla Valley. The proposed boundary follows a series of straight lines between points marked on the relevant USGS maps to encompass the central portion of the alluvial fan, which features the heavily cobbled Freewater series soil that is the defining characteristic of the proposed AVA. The petition notes that the proposed boundary was drawn to include as much of the heavily cobbled soils as possible while minimizing the inclusion of other soils. However, because the proposed boundary is required to be drawn using features found on the USGS maps, some relatively small areas of non-cobbled soil may be incorporated into the proposed AVA and some small areas of cobbled soil may be excluded.

Distinguishing Feature

The distinguishing feature of the proposed The Rocks District of Milton-Freewater AVA is the cobblestone-rich soil. In the original Soil Survey of Umatilla County, published by the United States Department of Agriculture in 1948, the cobblestone soils were mapped within the Yakima series as Yakima cobbly loam and Yakima gravelly loam. In 1985, these soils were reclassified within the newly created Freewater series as Freewater very cobbly loam and Freewater gravely silt loam. The region of cobblestone-rich soils that is covered by the town of Milton-Freewater was reclassified as Freewater-Urban land complex. According to the petition, 96 percent of the proposed AVA is covered by soils of the Freewater series.

Soils of the Freewater series are comprised mainly of basaltic alluvium derived from the erosion of the Blue Mountains, located to the east of the proposed AVA. Over time, the Walla Walla River and its numerous branches have carried gravel, cobbles, and boulders of basalt from the Blue Mountains into the Walla Walla Valley. As these pieces of rock built up in the river and its branches, the streams became shallower and changed their courses, leaving the rocks behind to form a broad alluvial fan. The gravel, cobbles, and boulders in the alluvial fan are loose and uncemented and form very deep layers. In areas that have not been tilled for cultivation, the stones are covered with a very thin layer of fine, windblown alluvium called loess. However, in areas that have been tilled, the stones are very conspicuous. The petition included photographs of several vineyards within the proposed AVA which show the vines planted in fields covered so completely with rocks that they have the appearance of cobblestone streets.

The soils in the regions surrounding the proposed The Rocks District of Milton-Freewater AVA are largely of the Walla Walla, Ellisforde, Yakima, Umapine, Hermison, Onyx, and Oliphan series. Classified as silt loams, cobbles are uncommon or absent from these soils, which were formed mainly from loess and are largely granite-derived, in contrast with the basalt-derived soils of the Freewater series. In parts of the surrounding regions outside the proposed AVA, the soils are underlain by “Touchet beds,” dense layers of sand and silt deposited by prehistoric floods. Touchet beds do not occur within the proposed AVA.

The excessively stony nature of the soils affects grape growing within the proposed The Rocks District of Milton-Freewater AVA. Because the stones that comprise the soils are uncemented and occur in deep layers, the vines are able to send roots between the stones and extend deep into the ground before being stopped by bedrock or cemented gravel. According to the petition, a root would have to penetrate 30 to 50 feet before reaching either bedrock or a denser layer of cemented gravel, which is deeper than grapevine roots typically grow. Deeply rooted vines can reach moisture stored in deep layers of the soil and therefore are more drought-tolerant than vines with shallower root systems. The petition states that although the soils in the surrounding region vary in thicknesses, they are generally not as deep as the Freewater series soils. As a result, vines planted outside the proposed AVA are not able to penetrate as deeply before hitting bedrock, Touchet beds, or a layer of cemented gravel.

The rockiness of the soils within the proposed AVA allows water to drain freely, which inhibits mildew and rot. According to the petition, Freewater series soils transmit water at rates in excess of 20 inches an hour, which classifies the soils as “somewhat excessively drained.” The soils surrounding the proposed AVA, by contrast, have finer grains that are packed more closely together, allowing them to drain water at the much slower rate of less than 2 inches per hour.

The soils of the proposed The Rocks District of Milton-Freewater AVA have a low risk of erosion because they are not comprised of fine, lightweight particles that could easily be removed by wind or rain. Because the soils are so resistant to erosion, vineyard owners can till repeatedly during the growing season. According to the petition, tilling concentrates the larger rocks on the surface, where they form a natural barrier to weed growth. The soils surrounding the proposed AVA, however, cannot be tilled as frequently because the soils are finer and more susceptible to erosion. As a result, vineyard owners outside the proposed AVA often plant ground cover crops between the rows of vines in order to suppress the growth of weeds and prevent erosion.

The rocky soil of the proposed AVA also absorbs and stores solar radiation. During the day, the sun heats the soil enough to raise both the surface and subsurface soil temperatures, as well as the temperature of low-hanging grape clusters. The petition included the results of a study comparing the surface and subsurface soil temperatures and the temperature of low-hanging clusters of grapes in a vineyard with the Freewater series soil and a vineyard with grass-covered loess soil. The data shows that the surface soil, subsurface soil, and grape cluster temperatures were all warmer in the vineyard with the Freewater series soil. The greatest temperature difference was at the surface of the soil, where temperatures in the rocky vineyard were approximately 4.5 degrees Celsius warmer than in the vineyard with the grass-covered loess soil. During the day, the warming of the stony Freewater series soil promotes vine growth, fruit maturation, and efficient photosynthesis. At night, the soil slowly releases the stored heat and warms the air enough to reduce the risk of frost in late spring and early fall.

Finally, the Freewater series soils of the proposed AVA have higher concentrations of certain elements than the soils of the surrounding regions. The petition includes a chemical analysis of the most common Freewater series soil, Freewater very cobbly loam, and the most common soil of the surrounding region, Walla Walla silt loam. The Freewater very cobbly loam contains significantly higher amounts of calcium, titanium, and iron than the Walla Walla silt loam. The petition also includes a comparison of the amount of iron in the soil that is in a form that can be used by plants. The plant-available iron level found in the vineyard within the proposed AVA was approximately 72 milligrams per kilogram (mg/kg). By contrast, the highest level of plant-available iron found in the surrounding region was approximately 45 mg/kg. Calcium, titanium, and especially iron are nutrients that are critical for healthy vine growth and fruit development.

Comparison of the Proposed the Rocks District of Milton-Freewater AVA to the Existing Walla Walla Valley and Columbia Valley AVAs

Walla Walla Valley AVA

The Walla Walla Valley AVA was established by T.D. ATF-165, which published in the Federal Register on February 6, 1984 (49 FR 4374). The Walla Walla AVA's boundary was later modified so that the entire AVA lay within the larger Columbia Valley AVA (see T.D. ATF-441, published in the Federal Register on February 26, 2001, at 66 FR 11542). The Walla Walla Valley AVA covers portions of Walla Walla County in southeast Washington and Umatilla County in northeast Oregon.

According to T.D. ATF-165 and T.D. ATF-441, the Walla Walla Valley AVA is a broad valley cut by the Walla Walla River. It is bordered by the mountainous Umatilla National Forest to the southeast, the Touchet River watershed to the north, and the Columbia River to the west. Elevations range from approximately 500 feet to 1,500 feet. The soils within the AVA are primarily derived from loess. The Walla Walla Valley AVA has a growing season of between 190 and 220 days and receives an average of 12.5 inches of rain annually.

The proposed The Rocks District of Milton-Freewater AVA is located entirely within the portion of the Walla Walla Valley AVA that is located within Umatilla County, Oregon, and it shares some broad characteristics of the larger established AVA. The proposed The Rocks District of Milton-Freewater AVA has a climate similar to that of the Walla Walla Valley AVA, with a growing season of approximately 197 days and an average rainfall of approximately 14 inches. Additionally, elevations in the proposed AVA are between 850 and 1,000 feet, which is within the range of elevations within the Walla Walla Valley AVA. However, the lowest elevations within the proposed AVA are higher than the lowest elevations of the Walla Walla Valley AVA and are not as susceptible to frost and freeze risks related to nocturnal temperature inversions that frequently affect the lower elevations of the Walla Walla Valley AVA. Furthermore, in contrast to the fine-grained, loess-derived soils of the Walla Walla Valley AVA, the soils within the proposed AVA are basalt-derived and contain large amounts of gravel, cobbles, and boulders. As previously discussed, the rocky soils of the proposed AVA contain higher levels of essential nutrients, are less prone to erosion, drain more rapidly, and absorb and radiate more solar energy than loess-derived soils.

Columbia Valley AVA

The Columbia Valley AVA was established by T.D. ATF-190, which published in the Federal Register on November 13, 1984 (49 FR 44895). The Columbia Valley AVA is a large basin surrounding the Columbia, Snake, and Yakima Rivers in Washington and Oregon. T.D. ATF-190 states that the Columbia Valley AVA has a growing season of between 150 and 204 days and annual rainfall of less than 15 inches.

The proposed The Rocks District of Milton-Freewater AVA is located entirely within the Oregon portion of the Columbia Valley AVA and has a climate similar to that of the Columbia Valley AVA. However, the distinctive rocky soil of the proposed AVA distinguishes it from the larger Columbia Valley AVA. Although T.D. ATF-190 does not describe the soil of the Columbia Valley AVA, a soil series description included in the petition to establish the proposed The Rocks District of Milton-Freewater AVA notes that the major soil series of the proposed AVA, the Freewater series, “is of small extent” and is essentially limited to Umatilla County, Oregon.

TTB Determination

TTB concludes that the petition to establish the approximately 3,770-acre The Rocks District of Milton-Freewater AVA merits consideration and public comment, as invited in this notice.

Boundary Description

See the narrative boundary description of the petitioned-for AVA in the proposed regulatory text published at the end of this notice.

Maps

The petitioner provided the required maps, and they are listed below in the proposed regulatory text.

Impact on Current Wine Labels

Part 4 of the TTB regulations prohibits any label reference on a wine that indicates or implies an origin other than the wine's true place of origin. If TTB establishes this proposed AVA, its name, “The Rocks District of Milton-Freewater,” will be recognized as a name of viticultural significance under 27 CFR 4.39(i)(3). TTB has also determined that the phrase “The Rocks of Milton-Freewater” has viticultural significance in relation to the proposed AVA. The text of the proposed regulation clarifies this point. Consequently, wine bottlers using the name “The Rocks District of Milton-Freewater” or “The Rocks of Milton-Freewater” in a brand name, including a trademark, or in another label reference as to the origin of the wine, would have to ensure that the product is eligible to use the AVA name as an appellation of origin if this proposed rule is adopted as a final rule. TTB does not believe that either “The Rocks” or “The Rocks District,” standing alone, would have viticultural significance if the proposed AVA is established, due to the widespread use of “The Rocks” as a geographical name. GNIS shows the name “The Rocks” used in reference to 25 locations in 17 States within the United States. Accordingly, the proposed part 9 regulatory text set forth in this document specifies only the full name “The Rocks District of Milton-Freewater” and the phrase “The Rocks of Milton-Freewater” as terms of viticultural significance for purposes of part 4 of the TTB regulations.

The approval of the proposed The Rocks District of Milton-Freewater AVA would not affect any existing AVA, and any bottlers using “Walla Walla Valley” or “Columbia Valley” as an appellation of origin or in a brand name for wines made from grapes grown within the Walla Walla Valley or Columbia Valley AVAs would not be affected by the establishment of this new AVA. The establishment of the proposed The Rocks District of Milton-Freewater AVA would allow vintners to use “The Rocks District of Milton-Freewater,” “Walla Walla Valley,” and “Columbia Valley” as appellations of origin for wines made from grapes grown within the proposed The Rocks District of Milton-Freewater AVA if the wines meet the eligibility requirements for the appellation.

For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label.

Different rules apply if a wine has a brand name containing an AVA name that was used as a brand name on a label approved before July 7, 1986. See 27 CFR 4.39(i)(2) for details.

Public Participation

Comments Invited

TTB invites comments from interested members of the public on whether it should establish the proposed AVA. TTB is also interested in receiving comments on the sufficiency and accuracy of the name, boundary, soils, and other required information submitted in support of the petition. In addition, given the proposed The Rocks District of Milton-Freewater AVA's location within the existing Walla Walla Valley and Columbia Valley AVAs, TTB is interested in comments on whether the evidence submitted in the petition regarding the distinguishing features of the proposed AVA sufficiently differentiates it from the existing Walla Walla Valley and Columbia Valley AVAs. TTB is also interested in comments on whether the geographic features of the proposed AVA are so distinguishable from the surrounding Walla Walla Valley and Columbia Valley AVAs that the proposed The Rocks District of Milton-Freewater AVA should no longer be part of those AVAs. Please provide specific information in support of your comments.

Because of the potential impact of the establishment of the proposed The Rocks District of Milton-Freewater AVA on wine labels that include the term “The Rocks District of Milton-Freewater” or “The Rocks of Milton-Freewater” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Impact on Wines Produced Across State Lines

Section 4.25(e)(3)(iv) of the TTB regulations (27 CFR 4.25(e)(3)(iv) requires that wines labeled with an AVA appellation of origin be “fully finished within the State, or one of the States, within which the labeled viticultural area is located . . .” The proposed The Rocks District of Milton-Freewater AVA is located entirely within Oregon, but is only a few miles from Walla Walla, Washington. TTB is aware that there may be winemakers who use custom crush or alternating proprietor facilities located in Walla Walla to make wine primarily from grapes grown within the proposed AVA. TTB understands winemakers may be using these facilities because of a lack of custom crush or alternating proprietor facilities located nearby in Oregon. Because of the TTB regulation, if the proposed The Rocks District of Milton-Freewater AVA is established, winemakers who use facilities in the State of Washington to produce wine from grapes grown within the proposed AVA would be unable to use “The Rocks District of Milton-Freewater” as an appellation of origin on their labels. TTB is interested in comments from persons who believe they may be negatively impacted by the inability to use “The Rocks District of Milton-Freewater” as an appellation of origin on a wine label solely because they use facilities located in Washington.

Submitting Comments

You may submit comments on this notice by using one of the following three methods:

• Federal e-Rulemaking Portal: You may send comments via the online comment form posted with this notice within Docket No. TTB-2014-0003 on “Regulations.gov,” the Federal e-rulemaking portal, at http://www.regulations.gov. A direct link to that docket is available under Notice No. 142 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 142 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2014-0003 on the Federal e-rulemaking portal, Regulations.gov, at http://www.regulations.gov. A direct link to that docket is available on the TTB Web site at http://www.ttb.gov/wine/wine-rulemaking.shtml under Notice No. 142. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW., Washington, DC 20005. You may also obtain copies at 20 cents per 8.5 x 11-inch page. Please note that TTB is unable to provide copies of the USGS quadrangle maps or any similarly sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___to read as follows:

§ 9.___ The Rocks District of Milton-Freewater.

(a) Name. The name of the viticultural area described in this section is “The Rocks District of Milton-Freewater”. For purposes of part 4 of this chapter, “The Rocks District of Milton-Freewater” and “The Rocks of Milton-Freewater” are terms of viticultural significance.

(b) Approved maps. The two United States Geological Survey 1:24,000 scale topographic maps used to determine the boundary of The Rocks District of Milton-Freewater viticultural area are titled:

(1) Milton-Freewater, Oreg., 1964; and

(2) Bowlus Hill, Oreg., 1964; photoinspected 1976.

(c) Boundary. The Rocks District of Milton-Freewater viticultural area is located in Umatilla County, Oregon. The boundary of The Rocks District of Milton-Freewater viticultural area is as follows:

(1) The beginning point is found on the Milton-Freewater map at the intersection of an unnamed medium-duty road known locally as Freewater Highway (State Route 339) and an unnamed light-duty road known locally as Crockett Road, section 26, T6N/R35E. From the beginning point, proceed east-southeasterly in a straight line for 0.8 mile to the intersection of State Highway 11 (Oregon-Washington Highway) and an unnamed light-duty road known locally as Appleton Road, section 25, T6N/R35E; then

(2) Proceed southeasterly in a straight line for 1.05 miles, crossing onto the Bowlus Hill map, to the intersection of three unnamed light-duty roads known locally as Grant Road, Turbyne Road, and Pratt Lane on the common boundary between section 36, T6N/R35E, and section 31, T5N/R36E; then

(3) Proceed southwesterly in a straight line for 1.1 miles, crossing back onto the Milton-Freewater map, to the intersection of the Union Pacific railroad tracks with the Walla Walla River, section 1, T5N/R35E; then

(4) Proceed southwesterly and then west-northwesterly along the Union Pacific railroad tracks for 1.2 miles to the intersection of the railroad tracks with the 980-foot elevation contour line, approximately 0.15 mile west of Lamb Street, section 2, T5N/R35E; then

(5) Proceed west-northwesterly in a straight line for 2.25 miles to the intersection of the 840-foot elevation contour line and an unnamed light-duty road known locally as Lower Dry Creek Road, section 33, T6N/R35E; then

(6) Proceed northwesterly in a straight line for 0.8 mile to the intersection of the 800-foot elevation contour line with an unnamed light-duty road running north-south in section 32, T6N/R35E; then

(7) Proceed easterly in a straight line for 0.9 mile to the intersection of the 840-foot elevation contour line with the Hudson Bay Canal, section 33, T6N/R35E; then

(8) Proceed due north in a straight line for 0.25 mile to the line's intersection with Sunnyside Road, section 33, T6N/T35E; then

(9) Proceed northeasterly in a straight line for 0.5 mile to the intersection of the 840-foot elevation contour line with an unnamed medium-duty road known locally as State Highway 332 (Umapine Highway), eastern boundary of section 28, R6N/T35E; then

(10) Proceed east-northeasterly in a straight line for 0.3 mile to the intersection of three unnamed light-duty roads known locally as Triangle Road, Hodgen Road, and Appleton Road, section 27, T6N/R35E; then

(11) Proceed east-northeasterly in a straight line for 1.25 miles, returning to the beginning point.

Signed: February 20, 2014.
John J. Manfreda,
Administrator.

[FR Doc. 2014-04137 Filed 2-25-14; 8:45 am]

BILLING CODE 4810-31-P